DEPARTMENT OF HEALTH AND HUMAN SERVICES

Centers for Disease Control and Prevention

Disease, Disability, and Injury Prevention and Control Special Emphasis Panels (SEP): Childhood Immunization, RFA-IP06-005, IP06-007, and IP06-008

In accordance with Section 10(a)(2) of the Federal Advisory Committee Act (Pub. L. 92-463), the Centers for Disease Control and Prevention (CDC) announces the following meeting:

Name: Disease, Disability, and Injury Prevention and Control Special Emphasis Panel (SEP): Childhood Immunization, RFA-IP06-005, IP06-007, and IP-06-008.

Time and Date: 1 a.m.-4 p.m., June 16, 2006 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: To conduct expert review of scientific merit of grant applications in response to Childhood Immunization, RFA-IP06-005, IP06-007, and IP06-008.

For Further Information Contact: George Bockosh, B.S., M.S., Scientific Review Administrator, Pitt Building 20, Room 313, MS P05, Pittsburgh, PA 15236, Telephone 412-386-6465.

The Director, Management Analysis and Services Office, has been delegated the authority to sign Federal Register notices pertaining to announcements of meetings and other committee management activities, for both CDC and the Agency for Toxic Substances and Disease Registry.

Dated: May 5, 2006.
Alvin Hall,
Director, Management Analysis and Services Office, Centers for Disease Control and Prevention.

[FR Doc. E6-7208 Filed 5-10-06; 8:45 am]

BILLING CODE 4163-18-P